DEPARTMENT OF ENERGY

Federal Energy Regulatory Commission

18 CFR Chapter I

[Docket No. RM02-7-000]

Accounting and Reporting of Asset Retirement Obligations

AGENCY: Federal Energy Regulatory Commission, DOE.

ACTION: Notice of Informal Technical Conference.

SUMMARY: The Federal Energy Regulatory Commission (Commission) intends to hold a staff technical conference on May 7 and 8, 2002, at 9:00 A.M. in the Commission's offices, 888 First Street, NE., Washington, DC, to address the financial accounting and reporting implications related to asset retirement obligations associated with the retirement of tangible long-lived assets.

DATES: The staff technical conference will be held at 9 a.m. on May 7 and May 8, 2002. Persons who wish to participate in the conference should, no later than March 25, 2002, notify Raymond Reid by telephone at (202) 219-2928, or by facsimile at (202) 219-2632, or by E-Mail: raymond.reid@ferc.gov or Mark Klose by telephone at (202) 219-2595, or by facsimile at (202) 219-2632, or by E-mail: mark.klose@ferc.gov.

ADDRESSES: The informal technical conference will be held at the Commission's offices, 888 First Street, NE., Washington, DC 20426.

FOR FURTHER INFORMATION CONTACT: Mark Klose (Technical Issues), Office of Executive Director, Division of Regulatory Accounting Policy, Federal Energy Regulatory Commission, 888 First Street, NE., Washington, DC 20426. Phone (202) 219-2595; Fax: (202) 219-2632; E-Mail: mark.klose@ferc.gov.

Raymond Reid (Technical Issues), Office of Executive Director, Division of Regulatory Accounting Policy, Federal Energy Regulatory Commission, 888 First Street, NE., Washington, DC 20426. Phone (202) 219-2928; Fax: (202) 219-2632; E-Mail: raymond.reid@ferc.gov.

Julia Lake (Legal Issues), Office of General Counsel, Federal Energy Regulatory Commission, 888 First Street, NE., Washington, DC 20426. Phone (202) 208-2019; E-Mail: julia.lake@ferc.gov.

SUPPLEMENTARY INFORMATION: In addition to publishing the full text of this document in the Federal Register, it is available for inspection in the Commission's Public Reference Room at 888 First Street, NE., Room 2A, Washington, DC 20426, during regular business hours and is posted on both the Commission's Issuance Posting System (CIPS) and the Records and Information Management Systems (RIMS), and may be viewed and printed remotely via the Internet through Commission's Home Page (http://www.ferc.gov).

Notice of Informal Technical Conference

March 8, 2002.

Take notice the Commission staff will hold an informal technical conference to discuss the financial accounting and reporting implications related to asset retirement obligations associated with the retirement of tangible long-lived assets. The conference will be held on Tuesday, May 7, 2002, and Wednesday, May 8, 2002, at 9:00 A.M. in a room to be designated at the offices of the Federal Energy Regulatory Commission, 888 First Street, NE., Washington, DC. The conference is being convened to enlist the participation of interested parties including among others, the Association of Oil Pipe Lines, Edison Electric Institute, Interstate Natural Gas Association of America, National Association of Regulatory Utility Commissioners, in the development of accounts and reporting requirements for tangible long-lived assets.

Participants may be assigned to a panel in order to establish a logical order of presentation and to facilitate an informal exchange of views. The informal technical conference is intended to be structured so that participants can discuss the financial accounting, and reporting implications related to obligations associated with the retirement of tangible long-lived assets and related matters. The goal of the conference is to identify how recognition of asset retirement obligations may affect the Commission's existing accounting and rate regulations.

Persons who wish to participate in the conference should, no later than March 25, 2002, notify Raymond Reid by telephone at (202) 219-2928, or by facsimile at (202) 219-2632, or by E-Mail: raymond.reid@ferc.gov or Mark Klose by telephone at (202) 219-2595, or by facsimile at (202) 219-2632, or by E-Mail: mark.klose@ferc.gov.

After reviewing the requests to participate, the Commission staff will issue a subsequent notice in the Federal Register specifying the time, and place and a proposed agenda. For additional information, interested persons may contact Raymond Reid by telephone at (202) 219-2928 (or by e-mail raymond.reid@ferc.gov) or Mark Klose by telephone at (202) 219-2595 (or by e-mail mark.klose@ferc.gov).

Magalie R. Salas,
Secretary.

[FR Doc. 02-6240 Filed 3-15-02; 8:45 am]

BILLING CODE 6717-01-P